DEPARTMENT OF THE TREASURY

Internal Revenue Service

Open Meeting of the Taxpayer Advocacy Panel Earned Income Tax Credit (EITC) Issue Committee

AGENCY: Internal Revenue Service (IRS), Treasury.

ACTION: Notice.

SUMMARY: An open meeting of the Taxpayer Advocacy Panel Earned Income Tax Credit Issue Committee will be conducted (via teleconference). The Taxpayer Advocacy Panel is soliciting public comments, ideas and suggestions on improving customer service at the Internal Revenue Service.

DATES: The meeting will be held Monday, August 13, 2006.

FOR FURTHER INFORMATION CONTACT: Audrey Y. Jenkins at 1-888-912-1227 (toll-free), or 718-488-2085 (non toll-free).

SUPPLEMENTARY INFORMATION: Notice is hereby given pursuant to Section 10(a)(2) of the Federal Advisory Committee Act, 5 U.S.C. App. (1988) that an open meeting of the Taxpayer Advocacy Panel Earned Income Tax Credit Issue Committee will be held Monday, August 13, 2007 from 10:30 a.m. to 11:30 a.m. ET via a telephone conference call. For information contact Audrey Y. Jenkins at 1-888-912-1227 or (718) 488-2085. The public is invited to make oral comments. Individual comments will be limited to five minutes. Due to limited conference lines, notification of intent to participate in the telephone conference call meeting must be made in advance to Audrey Y. Jenkins at the phone numbers listed above. Written comments may be submitted to Audrey Y. Jenkins, TAP Office, 10 MetroTech Center, 625 Fulton Street, Brooklyn, NY 11201 or posted to the Web site: http://www.improveirs.org.

The agenda will include various IRS issues.

Dated: July 16, 2007.
John Fay,
Acting Director, Taxpayer Advocacy Panel.

[FR Doc. E7-14089 Filed 7-19-07; 8:45 am]

BILLING CODE 4830-01-P